DEPARTMENT OF ENERGY

Federal Energy Regulatory Commission

[Project No. 12632-001]

East Texas Electric Cooperative, Inc.; Notice of License Application and Applicant Prepared Environmental Assessment (APEA) Filed With the Commission and Soliciting Comments and Preliminary Terms and Conditions, Recommendations, and Prescriptions

April 14, 2009.

Take notice that the following hydroelectric application and applicant-prepared environmental assessment have been filed with the Commission and is available for public inspection:

a. Type of Application: Original Major License—Existing Dam.

b. Project No.: 12632-001.

c. Date Filed: March 31, 2009.

d. Applicant: East Texas Electric Cooperative, Inc. (Cooperative).

e. Name of Project: Lake Livingston Hydroelectric Project.

f. Location: On the Trinity River, in San Jacinto, Polk, Trinity, and Walker Counties, Texas. The project would not occupy any federal lands.

g. Filed Pursuant to: Federal Power Act 16 U.S.C. 791(a)-825(r).

h. Applicant Contact: Edd Hargett, East Texas Electric Cooperative, Inc., 2905 Westward Drive, P.O. Box 631623, Nacogdoches, TX 75963; (936) 560-9532; eddh@gtpower.com.

i. FERC Contact: Sarah Florentino at (202) 502-6863 or sarah.florentino@ferc.gov.

j. Cooperating agencies: Federal, state, local, and Tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. The proposed project would use the following existing facilities: (1) The Trinity River Authority's (TRA) existing 14,400-foot-long (approximate) Lake Livingston dam, which has a crest elevation of 145.0 feet mean sea level (msl) and consists of (a) a basic earth embankment section, (b) outlet works, and (c) a spillway; and (2) the 83,000-acre Lake Livingston, which has a normal water surface elevation of 131.0 feet msl and gross storage capacity of 1,750,000 acre-feet.

The proposed project would consist of the following new facilities: (1) An intake structure and headrace channel approximately 800 feet long; (2) three steel penstocks, about 14 feet in diameter and 450 feet in length; (3) a powerhouse containing three generating units, having a total installed capacity of 24 MW; (4) an approximate 2,000-feet-long tailrace channel; (5) an approximate 2.5-mile-long, 138-kilovolt transmission line interconnecting the project with Entergy's existing Rich substation near Goodrich; and (6) an electric switchyard and other appurtenant facilities. The project would have an estimated annual generation of 124.030 gigawatt-hours, which the Cooperative would sell at wholesale to its constituent electric cooperatives.

l. The application has not been accepted for filing and is not ready for environmental analysis at this time.

m. A copy of the application is available for review at the Commission in the Public Reference Room or may be viewed on the Commission's Web site at http://www.ferc.gov, using the “eLibrary” link. Enter the docket number, excluding the last three digits in the docket number field, to access the document. For assistance, contact FERC Online Support at FERCOnlineSupport@ferc.gov, or toll-free at 1-866-208-3676, or for TTY, (202) 502-8659. The Cooperative has distributed a copy of the license application and APEA to interested entities. Copies of these documents are also available for review at the Sam Houston Electric Cooperative, 1157 East Church Street, Livingston, Texas 77351.

You may also register online at http://www.ferc.gov/docs-filing/esubscription.asp to be notified via e-mail of new filings and issuances related to this or other pending projects. For assistance, contact FERC Online Support.

n. With this notice we are soliciting preliminary terms, conditions, recommendations, prescriptions, and comments on the license application and APEA. All documents (original and eight copies) should be filed with: Kimberly D. Bose, Secretary, Federal Energy Regulatory Commission, 888 First Street, NE., Washington, DC 20426. In addition, all comments on the license application and APEA should be sent to the address in item (h). All filings must (i) include the project name and number, (ii) bear the heading “Preliminary Comments,” “Preliminary Recommendations,” “Preliminary Terms and Conditions,” or “Preliminary Prescriptions,” (iii) furnish the name, address, and telephone number of the person submitting the filing, and (iv) otherwise comply with the requirements of 18 CFR 385.2001 through 385.2005. All comments, preliminary recommendations, terms and conditions, or prescriptions must set forth their evidentiary basis and otherwise comply with the requirements of 18 CFS 4.34(b). Any entity interested in commenting on the license application and APEA must do so within 60 days from the date of filing of the license application (or by June 13, 2009).

Comments and preliminary recommendations, terms and conditions, and prescriptions may be filed electronically via the Internet in lieu of paper. The Commission strongly encourages electronic filings. See 18 CFR 385.2001(a)(1)(iii) and the instructions on the Commission's Web site (http://www.ferc.gov) under the “e-Filing” link. For a simpler method of submitting text only comments, click on “Quick Comment.”

o. With this notice, we are initiating consultation with the Texas State Historic Preservation Officer (SHPO), as required by § 106 of the National Historic Preservation Act, and the regulations of the Advisory Council on Historic Preservation, 36 CFR 800.4.

p. Procedural Schedule: The application will be processed according to the following Hydro Licensing Schedule. Revisions to the schedule may be made as appropriate.

Issue Acceptance Letter and Notice Soliciting Final Comments, Terms and Conditions, etc | August 2009.
Notice of Availability of the Draft (or Potential Single) EA | February 2010.
Notice of Availability of the Final EA (if necessary) | August 2010.

q. Other Agency Authorizations: A Texas Coastal Zone consistency certification is required for the Lake Livingston Project. The Cooperative certifies that the project is consistent with the Texas Coastal Management Program goals and policies and would be conducted in a manner consistent with said program.

In addition, a Texas Commission on Environmental Quality (Texas CEQ) section 401 Water Quality Certification is required. As part of its processing of the license application, the Texas CEQ is reviewing the application under Section 401 of the Clean Water Act (CWA), and in accordance with Title 30, Texas Administrative Code Section 279.1-13, to determine if the work would comply with State water quality standards. Based on an understanding between the Federal Energy Regulatory Commission (FERC) and the Texas CEQ, this public notice is also issued for the purpose of advising all known interested persons that there is pending before the Texas CEQ a decision on the request for section 401 water quality certification for this FERC license application. Any comments concerning this certification request may be submitted to the Texas Commission on Environmental Quality, 401 Coordinator, MSC-150, P.O. Box 13087, Austin, Texas 78711-3087. The public comment period extends 30 days from the date of publication of this notice. A copy of the public notice with a description of work is made available for review in the Texas CEQ's Austin office. The complete application may be reviewed at the address listed in paragraph l. The Texas CEQ may conduct a public meeting to consider all comments concerning water quality if requested in writing. A request for a public meeting must contain the following information: The name, mailing address, application number, or other recognizable reference to the application, a brief description of the interest of the requester, or of persons represented by the requester; and a brief description of how the certification, if granted, would adversely affect such interest.

Kimberly D. Bose,
Secretary.

[FR Doc. E9-9079 Filed 4-20-09; 8:45 am]

BILLING CODE 6717-01-P